DEPARTMENT OF DEFENSE

Office of the Secretary

Defense Advisory Committee on Women in the Services; Notice of Federal Advisory Committee Meeting

AGENCY: Department of Defense.

ACTION: Federal Advisory Committee meeting notice.

SUMMARY: The Department of Defense is publishing this notice to announce that the following Federal Advisory Committee meeting of the Defense Advisory Committee on Women in the Services (DACOWITS) will take place. This meeting is open to the public.

DATES: Tuesday, September 13, 2016, from 8:30 a.m. to 2:15 p.m.; Wednesday, September 14, 2016, from 8:30 a.m. to 12 p.m.

ADDRESSES: Hilton Alexandria—Mark Center, 5000 Seminary Road, Alexandria, VA 22311.

FOR FURTHER INFORMATION CONTACT: Mr. Robert Bowling or DACOWITS Staff at 4800 Mark Center Drive, Suite 04J25-01, Alexandria, Virginia 22350-9000; robert.d.bowling1.civ@mail.mil, telephone (703) 697-2122, fax (703) 614-6233. Any updates to the agenda or any additional information can be found at http://dacowits.defense.gov/.

SUPPLEMENTARY INFORMATION: Pursuant to the Federal Advisory Committee Act of 1972 (5 U.S.C. Appendix, as amended), the Government in the Sunshine Act of 1976 (5 U.S.C. 552b), and section 10(a), Public Law 92-463, as amended, notice is hereby given of a forthcoming meeting of the DACOWITS.

The purpose of the meeting is for the Committee to receive briefings and updates relating to their current work. The Committee will start the meeting with the Designated Federal Officer (DFO) giving a status update on the Committee's requests for information. There will then be a panel discussion with the U.S. Army and U.S. Marine Corps to discuss the Curriculum Standards for Infantry Officer School. This will be followed by a panel discussion with the Military Services on their Gender Neutral Occupational Standards. This will be followed with a public comment period. Day one will end with a panel discussion with the Military Services on their Maternity Uniforms. On the second day the Committee will receive a briefing from the Joint Advertising Market Research & Studies (JAMRS) Office on the Nation's Recruitable Population, which will then be followed by a panel discussion with the Military Services on the same topic. Lastly, the Committee will propose and vote on their 2016 Recommendations to the Secretary of Defense.

Pursuant to 41 CFR 102-3.140, and section 10(a)(3) of the Federal Advisory Committee Act of 1972, interested persons may submit a written statement for consideration by the DACOWITS. Individuals submitting a written statement must submit their statement to the point of contact listed at the address in FOR FURTHER INFORMATION CONTACT no later than 5 p.m., Tuesday, September 6, 2016. If a written statement is not received by Tuesday, September 6, 2016, prior to the meeting, which is the subject of this notice, then it may not be provided to or considered by the DACOWITS until its next open meeting. The DFO will review all timely submissions with the DACOWITS Chair and ensure they are provided to the members of the Committee. If members of the public are interested in making an oral statement, a written statement should be submitted. After reviewing the written comments, the Chair and the DFO will determine who of the requesting persons will be able to make an oral presentation of their issue during an open portion of this meeting or at a future meeting. Pursuant to 41 CFR 102-3.140(d), determination of who will be making an oral presentation is at the sole discretion of the Committee Chair and the DFO, and will depend on time available and if the topics are relevant to the Committee's activities. Five minutes will be allotted to persons desiring to make an oral presentation. Oral presentations by members of the public will be permitted only on Tuesday, September 13, 2016 from 12 p.m. to 12:30 p.m. in front of the full Committee. The number of oral presentations to be made will depend on the number of requests received from members of the public.

Pursuant to 5 U.S.C. 552b and 41 CFR 102-3.140 through 102-3.165, this meeting is open to the public, subject to the availability of space.

Meeting Agenda

Tuesday, September 13, 2016, From 8:30 a.m. to 2:15 p.m.

—Welcome, Introductions, Announcements

— Request for Information Status Update

— Panel Discussion—Curriculum Standards for Infantry Officer School

—Panel Discussion—Gender Neutral Occupational Standards

—Public Comment Period

—Panel Discussion—Maternity Uniforms

Wednesday, September 14, 2016, From 8:30 a.m. to 12:00 p.m.

—Welcome and Announcements

—Briefing—The Nation's Recruitable Population

—Panel Discussion—The Nation's Recruitable Population

—Committee Proposes and Votes on 2016 Recommendations

Dated: August 19, 2016.
Aaron Siegel,
Alternate OSD Federal Register Liaison Officer, Department of Defense.

[FR Doc. 2016-20306 Filed 8-23-16; 8:45 am]

BILLING CODE 5001-06-P